DEPARTMENT OF AGRICULTURE

Farm Service Agency

Request for Extension of a Currently Approved Information Collection

AGENCY: Farm Service Agency, USDA.

ACTION: Notice and request for comments.

SUMMARY: In accordance with the Paperwork Reduction Act of 1995, this notice announces that the Farm Service Agency (FSA) intends to request an extension for a currently approved information collection in support of the Agricultural Foreign Investment Disclosure Act of 1978 (AFIDA).

DATES: Comments on this notice must be received on or before July 11, 2003 to be assured of consideration.

FOR FURTHER INFORMATION CONTACT: Patricia A. Blevins, Agricultural Foreign Investment Specialist, Natural Resources Analysis Group, Economic and Policy Analysis Staff, USDA, FSA, STOP 0531, 1400 Independence Avenue, SW., Washington, DC 20250-0531, (202) 720-0604.

SUPPLEMENTARY INFORMATION:

Title: Agricultural Foreign Investment Disclosure Act Report.

OMB Control Number: 0560-0097.

Expiration Date of Approval: October 31, 2003.

Type of Request: Extension of a currently approved information collection.

Abstract: AFIDA requires foreign persons who hold, acquire, or dispose of any interest in U.S. agricultural land to report the transactions to the FSA on an 2 AFIDA report. The information so collected is made available to States. Also, although not required by law, the information collected from the AFIDA reports is used to prepare annual report to Congress and the President concerning the effect of foreign investment upon family farms and rural communities so that Congress may review the annual report and decide if further regulatory action is required.

Estimate of Burden: Public reporting burden for this collection of information is estimated to average .5 hours per response.

Respondents: Foreign investors, corporate employees, attorneys or farm managers.

Estimate Number of Respondents: 4,375.

Estimate Number of Responses per Respondent: 1.

Estimated Number of Responses: 4,375.

Estimated Total Annual Burden on Respondents: 2,108 hours.

Proposed topics for comment include: (a) Whether the collection of information is necessary for the proper performance of the functions of the agency, including whether the information will have practical utility; (b) the accuracy of the agency's estimate of burden including the validity of the methodology and assumptions used; (c) ways to enhance the quality, utility and clarity of the information collected; or (d) way to minimize the burden of the collection of the information on those who are to respond, including through the use of appropriate automated, electronic, mechanical, or other technological collection techniques or other forms of information technology.

Comments should be sent to the Desk Officer for Agriculture, Office of Information and Regulatory Affairs, Office of Management and Budget, Washington, DC 20503 and to Patricia A. Blevins, Agricultural Foreign Investment Specialist, Natural Resources Analysis Group, Economic and Policy Analysis Group, USDA, FSA, STOP 0531, 1400 Independence Avenue, SW., Washington, DC 20250-0531, (202) 720-0604.

All comments to this notice will be summarized and included in the request for OMB approval. All comments will also become a matter of public record.

Signed at Washington, DC, on May 5, 2003.
James R. Little,
Administrator, Farm Service Agency.

[FR Doc. 03-11691 Filed 5-9-03; 8:45 am]

BILLING CODE 3410-05-P